DEPARTMENT OF COMMERCE

International Trade Administration

Export Trade Certificate of Review

ACTION: Notice of application to amend an export trade certificate of review.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 92-7A001.”

The original Certificate for Aerospace Industries Association of America, Inc. was issued on April 10, 1992 (57 FR 13707, April 17, 1992) and previously amended on September 8, 1992 (57 FR 41920, September 14, 1992); October 8, 1993 (58 FR 53711, October 18, 1993); November 17, 1994 (59 FR 60349, November 23, 1994); June 26, 1995 (60 FR 36262, July 14, 1995); November 12, 1998 (63 FR 64061, November 18, 1998); and December 4, 2001 (66 FR 64216, December 12, 2001). A summary of the application for an amendment follows.

Summary of the Application

Applicant: Aerospace Industries Association of America, Inc., 1000 Wilson Boulevard, Suite 1700, Arlington, Virginia 22209-3901.

Contact: Matthew F. Hall, Counsel, Telephone: (202) 862-9700.

Application No.: 92-7A001.

Date Deemed Submitted: August 14, 2003.

Proposed Amendment: Aerospace Industries Association of America, Inc. seeks to amend its Certificate to:

1. Add each of the following companies as a new “Member” of the Certificate within the meaning of section 325.2(1) of the Regulations (15 CFR 325.2(1)): Areté Associates, Arlington, VA; AstroVision International, Inc., Bethesda, MD; B&E Tool Company, Inc., Southwick, MA; Celestica Corporation, Toronto, Ontario; Computer Sciences Corporation, El Segundo, CA; Crane Aerospace & Electronics, Lynwood, WA (Controlling Entity: Crane Company, Stamford, CT); Dy 4 Systems Limited, Kanata, Ontario (Controlling Entities: Force Computers, Fremont, CA and Solectron Corporation, Milpitas, CA); EDO Corporation, New York, NY; EFW Inc., Fort Worth, TX; ESIS, Inc., San Diego, CA; Federation, Inc., Centennial, CO; HITCO Carbon Composites, Inc., Gardena, CA; JEDCO, Inc., Grand Rapids, MI; L-3 Communications Holdings, Inc., New York, NY; 3M Company, St. Paul, MN; Orbital Sciences Corporation, Dulles, VA; PerkinElmer, Inc., Wellesley, MA; Proficiency, Inc., Marlborough, MA; The Purdy Corporation, Manchester, CT; Remmele Engineering, Inc., New Brighton, MN; RTI International Metals, Inc., Niles, OH; Silicon Graphics, Inc., Mountain View, CA; SM&A, Newport Beach, CA; and Titan Corporation, San Diego, CA;

2. Delete the following companies as “Members” of the Certificate: The Aerostructures Corporation, Nashville, TN; Davis Tool, Inc., Hillsboro, OR; Fairchild Dornier, Corporation, Wessling, Germany; The Fairchild Corporation, Dulles, VA, for the activities of Fairchild Fasteners, Dulles, VA; Genuity Solutions, Inc., Woburn, MA; Groen Brothers Aviation Incorporated, Salt Lake City, Utah; i2 Technologies, Washington, DC; The NORDAM Group, Tulsa, OK; Robinson Helicopter Company, Torrance, CA; and Space Access, LLC, Palmdale, CA; TRW Inc., Cleveland, OH; and

3. Change the listing of the following Members: “Stellex Aerostructures, Inc., Woodland Hills, CA” to the new listing “Stellex Aerostructures, Inc., Lebanon, NJ”; “GenCorp, Sacramento, CA” to the new listing “Aerojet, Rancho Cordova, CA”; “Parker Hannifin Corporation, Cleveland, OH” to the new listing “Parker Aerospace, Irvine, CA”; “Embraer Aircraft Corporation, Brazil” to the new listing “Embraer Aircraft Holding, Inc., Fort Lauderdale, FL”; “GKN Aerospace, Inc., Reston, VA” to the new listing “GKN Aerospace Services, Farnham, Surrey, UK”; “The Boeing Company, Seattle, WA” to the new listing “The Boeing Company, Chicago, IL”; “Honeywell Incorporated, Morristown, NJ” to the new listing “Honeywell Aerospace, Phoenix, AZ”; “MatrixOne, Inc., Chelmsford, MA” to the new listing “MatrixOne Inc., Westford, MA”; and “Smiths Group, PLC, London, England, UK, for the activities of Smiths Aerospace Actuation Systems, Los Angeles, Duarte, CA” to the new listing “Smiths Aerospace Actuation Systems, Duarte, CA”.

Dated: August 20, 2003.
Jeffrey C. Anspacher,
Director, Office of Export Trading, Company Affairs.

[FR Doc. 03-21789 Filed 8-25-03; 8:45 am]

BILLING CODE 3510-DR-P